DEPARTMENT OF COMMERCE

National Institute of Standards and Technology

Manufacturing Extension Partnership Advisory Board On-line Open Meeting

AGENCY: National Institute of Standards and Technology (NIST), Commerce

ACTION: Notice of open meeting.

SUMMARY: The National Institute of Standards and Technology (NIST) announces that the Manufacturing Extension Partnership (MEP) Advisory Board will hold an open, on-line meeting via webcast on Wednesday, September 26, 2012, from 2:00 p.m. to 3:00 p.m. Eastern Time. The on-line meeting will focus on 1) any follow-up from the MEP Advisory Board preparatory meeting held on August 29, 2012, 2) an update on the NIST MEP FY 2013 budget, and 3) updates on changes to NIST MEP's evaluation system and metrics. Interested members of the public will be able to participate in the meeting from remote locations by calling into a central phone number.

DATES: The on-line meeting will convene September 26, 2012, at 2 p.m. and will adjourn at 3 p.m. Eastern Time that day.

ADDRESSES: The meeting will be held on-line via webcast and will be open to the public. Interested parties may participate in the meeting from their remote location. Questions regarding the on-line meeting should be sent to the Manufacturing Extension Partnership, National Institute of Standards and Technology, 100 Bureau Drive, Mail Stop 4800, Gaithersburg, Maryland 20899-4800. For instructions on how to participate in the meeting, please see the SUPPLEMENTARY INFORMATION section of this notice.

FOR FURTHER INFORMATION CONTACT: Karen Lellock, Manufacturing Extension Partnership, National Institute of Standards and Technology, 100 Bureau Drive, Mail Stop 4800, Gaithersburg, Maryland 20899-4800, telephone number (301) 975-4269, email: Karen.Lellock@nist.gov.

SUPPLEMENTARY INFORMATION: The MEP Advisory Board (Board) is authorized under Section 3003(d) of the America COMPETES Act (P.L. 110-69) in accordance with the provisions of the Federal Advisory Committee Act, as amended, 5 U.S.C. App. The Board is composed of 10 members, appointed by the Director of NIST. MEP is a unique program consisting of centers across the United States and Puerto Rico with partnerships at the state, federal, and local levels. The Board provides a forum for input and guidance from the MEP program stakeholders in the formulation and implementation of tools and services focused on supporting and growing the U.S. manufacturing industry and provides advice on MEP programs, plans, and policies, assesses the soundness of MEP plans and strategies, and assesses current performance against MEP program plans.

Background information on the Board is available at http://www.nist.gov/mep/advisory-board.cfm

Pursuant to the Federal Advisory Committee Act, as amended, 5 U.S.C. App., notice is hereby given that the Manufacturing Extension Partnership Advisory Board will hold a meeting via webcast on Wednesday, September 26, 2012, from 2:00 p.m. until 3:00 p.m. Eastern Time. There will be no central meeting location. The public is invited to participate in the meeting by calling in from remote locations.

This on-line meeting will focus on (1) any follow-up from the MEP Advisory Board preparatory meeting held on August 29, 2012, (2) an update on the NIST MEP FY 2013 budget, and (3) updates on changes to NIST MEP's evaluation system and metrics. The agenda may change to accommodate other Board business.

All persons wishing to participate in the on-line meeting are required to pre-register. Please submit your name, email address and phone number to Karen Lellock by 5:00 p.m. Eastern Time, Monday, September 24, 2012. At the time of registration, participants will be provided with detailed instructions on how to dial in from their remote location in order to participate. Ms. Lellock's email address is Karen.Lellock@nist.gov and her phone number is (301) 975-4269.

Individuals and representatives of organizations who would like to offer comments and suggestions related to the MEP Advisory Board's business are invited to request a place on the agenda at the time they pre-register. Approximately 15 minutes will be reserved for public comments at the beginning of the meeting. Speaking times will be assigned on a first-come, first-served basis. The amount of time per speaker will be determined by the number of requests received but is likely to be no more than three to five minutes each. Questions from the public will not be considered during this period. Speakers who wish to expand upon their oral statements, those who had wished to speak but could not be accommodated on the agenda, and those who were unable to participate in the webcast are invited to submit written statements to the MEP Advisory Board, National Institute of Standards and Technology, 100 Bureau Drive, Mail Stop 4800, Gaithersburg, Maryland 20899-4800, or via fax at (301) 963-6556, or electronically by email to Karen.Lellock@nist.gov.

Dated: August 31, 2012.
Phillip Singerman,
Associate Director for Innovation and Industry Services.

[FR Doc. 2012-22356 Filed 9-10-12; 8:45 am]

BILLING CODE 3510-13-P